OFFICE OF MANAGEMENT AND BUDGET

Request for Comments on FITARA Implementation Guidance

AGENCY: Office of Management and Budget (OMB).

ACTION: Notice.

SUMMARY: OMB's Office of E-Government & Information Technology (E-Gov) is seeking public comment on draft guidance to implement the Federal Information Technology Acquisition Reform Act (FITARA).

DATES: Interested parties may submit comments and feedback by the deadline listed on management.cio.gov.

ADDRESSES: Interested parties should provide comments at the following link: management.cio.gov.

FOR FURTHER INFORMATION CONTACT: Mr. Ben Sweezy, OMB at egov@omb.eop.gov.

SUPPLEMENTARY INFORMATION: The Federal Information Technology Acquisition Reform Act (FITARA) was enacted on December 19, 2014. FITARA outlines specific requirements related to:

1. Chief Information Officer (CIO) Authority Enhancements

2. Enhanced Transparency and Improved Risk Management in Information Technology Investments

3. Portfolio Review

4. Expansion of Training and Use of Information Technology Cadres

5. Federal Data Center Consolidation Initiative

6. Maximizing the Benefit of the Federal Strategic Sourcing Initiative

7. Government-wide Software Purchasing Program

To implement the requirements of FITARA, combined with the need to update policy and guidance related to other modern IT practices, OMB is establishing this guidance. This guidance reflects input from a diverse group of stakeholders, including representatives from the Chief Financial Officer (CFO), Chief Human Capital Officer (CHCO), Chief Acquisition Officer (CAO), Assistant Secretaries for Management (ASAM), and Chief Operating Officers (COOs) communities.

Tony Scott,
Administrator, Office of Information Technology and E-Government.

[FR Doc. 2015-09560 Filed 4-24-15; 8:45 am]

BILLING CODE 3110-01-P